UNIFIED CARRIER REGISTRATION PLAN

Sunshine Act Meeting Notice; Unified Carrier Registration Plan Board Subcommittee Meetings

TIME AND DATE: January 27, 2020, from 9:00 a.m. to 5:00 p.m., Central time.

PLACE: Drury Inn & Suites Riverwalk Hotel, 201 N. St. Mary's Street, San Antonio, TX. These meetings will also be accessible via conference call. Any interested person may call 1-866-210-1669, passcode 5253902#, to listen and participate in the open portions of these meetings.

STATUS: These meetings will be open to the public.

MATTERS TO BE CONSIDERED: The Unified Carrier Registration Plan Board Subcommittees (each a “Subcommittee”) will continue their work in developing and implementing the Unified Carrier Registration Plan and Agreement. The subject matter of these meetings will include:

Audit Subcommittee Meeting

Proposed Agenda

Portions Open to the Public

I. Call to Order and Roll Call—Subcommittee Chair

The Subcommittee Chair will welcome attendees, call the meeting to order, call roll for the Subcommittee, and confirm whether a quorum is present, and facilitate self-introductions.

II. Verification of Publication of Meeting Notice—UCR Executive Director

The UCR Executive Director will verify the publication of meeting notice on the UCR website and in the Federal Register.

III. Review and Approval of Subcommittee Agenda and Setting of Ground Rules—Subcommittee Chair

For Discussion and Possible Subcommittee Action

The Subcommittee Agenda will be reviewed and the Subcommittee will consider adoption.

Ground Rules

Subcommittee action only to be taken in designated areas on agenda

Please MUTE your phone

Please do not place the call on HOLD

IV. Approval of Minutes from October 16, 2019 Meeting—UCR Operations Manager

For Discussion and Possible Subcommittee Action

• Minutes from the October 16, 2019 meeting will be reviewed. The Subcommittee will consider action to approve.

V. State Compliance Review Results—UCR Depository Manager

For Discussion and Possible Subcommittee Action

The UCR Depository Manager will review report on key findings from recently completed state compliance reviews. The Subcommittee may act to recommend to the Board corrective actions required by the states in areas deemed not in compliance with UCR policy.

VI. State Audit Performance Standards—UCR Depository Manager

For Discussion and Possible Subcommittee Action

The Depository Manager will review draft state audit performance standards. The Subcommittee may act to recommend adoption to the Board.

VII. Report on 2020 State Compliance Reviews—UCR Depository Manager

The UCR Depository Manager will report on plans for conducting state compliance reviews in 2020 and answer questions.

VIII. Communication Campaigns—Subcommittee Chair

For Discussion and Possible Subcommittee Action

The Subcommittee Chair will lead a discussion on the need for UCR to execute carrier solicitations for states currently running limited or no campaigns of their own. Next, the Subcommittee Chair will discuss the need for UCR to execute communications to carriers identified through roadside inspections to be operating in interstate commerce but identified in MCMIS as “inactive” or “intrastate.” The Subcommittee may act to recommend either or both proposals to the Board.

IX. Potential of Additional Funding for DSL—Subcommittee Chair

For Discussion and Possible Subcommittee Action

The Subcommittee Chair will lead a discussion on a proposal for the UCR Board to fund an additional one-half Full Time Equivalent for DSL for the purpose of continuing to process prior year Focused Anomalies Reviews (FARs). The Subcommittee may act to recommend this proposal to the Board.

X. UCR State-Carrier Audit Methodology—Subcommittee Chair

For Discussion and Possible Subcommittee Action

The Subcommittee will consider proposed amendments, related to state carrier audits, for the UCR Agreement and Handbook in order to align both guidance documents with current practice and may act to recommend adoption to the Board.

XI. Report on the Depository Audit for 2017 and 2018—UCR Depository Manager

The UCR Depository Manager will report on results from the 2017 and 2018 Depository audits and answer questions

XII. Report on the Depository Financial Statement Audit for 2019—UCR Depository Manager

The UCR Depository Manager will report on the status of the Depository financial audit and answer questions.

XIII. Report on FARs Results 2018-19—DSL Transportation

The Subcommittee will hear a report on results from the Focused Anomalies Review (FARs) program in 2018 and 2019.

XIV. National Registration System Updates—Seikosoft

The Subcommittee will hear a report on the performance of the NRS, as well as an update on the audit module.

XV. Other Business—Subcommittee Chair

The Subcommittee Chair will call for any other items the subcommittee members would like to discuss.

XVI. Adjournment—Subcommittee Chair

The Subcommittee Chair will adjourn the meeting.

Finance Subcommittee Meeting

Proposed Agenda

I. Call to Order—Subcommittee Chair

The Subcommittee Chair will welcome attendees, call the meeting to order, call roll for the Subcommittee and confirm whether a quorum is present, and facilitate self-introductions.

II. Verification of Meeting Notice—UCR Executive Director

The UCR Executive Director will verify the publication of meeting notice on the UCR website and in the Federal Register.

III. Review and Approval of Subcommittee Agenda and Setting of Ground Rules—Subcommittee Chair

For Discussion and Possible Subcommittee Action

The agenda will be reviewed and the Subcommittee will consider adoption.

Ground Rules

Subcommittee action only to be taken in designated areas on agenda

Please MUTE your phone

Please do not place the call on HOLD

IV. Approval of Minutes from Oct. 16, 2019 Meeting—UCR Operations Manager

For Discussion and Possible Subcommittee Action

Minutes from the October 16, 2019 meeting will be reviewed and the Subcommittee will consider action to approve.

V. Initial 2020 Distributions to States—UCR Depository Manager

For Discussion and Possible Subcommittee Action

The Subcommittee will review proposed plans for initial distributions to states for the 2020 registration year and reducing excess fees from certain past years by including these sums in the distributions. The Subcommittee may act to recommend adoption of the proposal to the Board.

VI. Certificates of Deposit—UCR Depository Manager

For Discussion and Possible Subcommittee Action

The UCR Depository Manager will provide a report on activities required to redeem certificates of deposit at the Bank of North Dakota scheduled to mature on February 5, 2020 as well as discuss the need to reinvest proceeds from the matured CDs. The Subcommittee may act to recommend adoption of the proposal to the Board.

VII. Board Insurance—UCR Depository Manager

For Discussion and Possible Subcommittee Action

The Subcommittee will hear a report on plans to procure insurance for the UCR Board and Officers (directors and officers, cybersecurity, general liability). The Subcommittee may act to recommend adoption of the proposal to the Board.

VIII. Financial and Unbudgeted Expense Reserves—UCR Depository Manager

The UCR Depository Manager will report on the financial and unbudgeted expense reserve fund.

IX. 2019 Administrative Expenses—UCR Depository Manager

The UCR Depository Manager will provide a report on 2019 administrative expenses.

X. Other Business—Subcommittee Chair

The Subcommittee Chair will call for any other items the Subcommittee members would like to discuss.

XI. Adjourn—Subcommittee Chair

The Subcommittee Chair will adjourn the meeting.

Education and Training Subcommittee Meeting

Proposed Agenda

I. Call to Order—Subcommittee Chair

The Subcommittee Chair will welcome attendees, call the meeting to order, call roll for the Subcommittee, and confirm whether a quorum is present, and facilitate self-introductions.

II. Verification of Meeting Notice—UCR Executive Director

The UCR Executive Director will verify publication of meeting notice on the UCR website and in the Federal Register.

III. Review and Approval of Subcommittee Agenda and Setting of Ground Rules—Subcommittee Chair

For Discussion and Possible Subcommittee Action

The Subcommittee Agenda will be reviewed and the Subcommittee will consider adoption.

Ground Rules

Subcommittee action only to be taken in designated areas on agenda

Please MUTE your phone

Please do not place the call on HOLD

IV. Approval of Minutes from January 16, 2020 Meeting—UCR Operations Manager

For Discussion and Possible Subcommittee Action

• Minutes from the January 16, 2020 Education and Training Subcommittee meeting will be reviewed and the Subcommittee will consider action to approve.

V. Report on Plans to Launch Training Modules—UCR Operations Manager

The UCR Operations Manager will report on plans to launch an initial wave of training modules by June 2020.

VI. Mandatory Training for States—Subcommittee Chair

For Discussion and Possible Subcommittee Action

The Subcommittee Chair will lead a discussion on a proposed policy requiring all participating states to engage in UCR trainings once available. Specifically, the proposed policy would require at least one state representative to participate in any new remote trainings (e.g., videos, webinars) within 30 days of its release, as well as attend any new live/in-person training when scheduled. The Subcommittee may act to recommend adoption of this policy to the Board.

VII. Travel Reimbursement for Training Attendees—Subcommittee Chair

For Discussion and Possible Subcommittee Action

The Subcommittee Chair will next lead a discussion on a proposed policy stating that UCR will reimburse one attendee from each state for reasonable travel expenses incurred for attending any mandatory UCR trainings. The Subcommittee may act to recommend adoption of this policy to the Board.

VIII. Other Items—Subcommittee Chair

The Subcommittee Chair will call for any other items the Subcommittee members would like to discuss.

IX. Adjournment—Subcommittee Chair

The Subcommittee Chair will adjourn the meeting.

These agendas will be available no later than 5:00 p.m. Eastern daylight time, January 17, 2020 at: https://ucrplan.org.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2020-00837 Filed 1-15-20; 11:15 am]

BILLING CODE 4910-YL-P